DEPARTMENT OF JUSTICE

Notice of Lodging of Proposed Consent Decree Under the Clean Water Act, Clean Air Act, and Resource Conservation and Recovery Act

On May 24, 2023, the Department of Justice filed a Complaint and concurrently lodged a proposed Consent Decree with the United States District Court for the District of Pennsylvania, Western District, in a lawsuit entitled United States, et. al. v. Eastman Chemical Resins, Inc., et. al., Civil Action No. 2:23-cv-00867-MJH.

The Complaint concerns violations at a hydrocarbon resins manufacturing facility located at 2200 State Rt. 87 in Jefferson Hills, Pennsylvania. The United States and Pennsylvania Department of Environmental Protection (“PADEP”) filed this lawsuit alleging multiple claims against Eastman Chemical Resins, Inc. (“Eastman”), the former owner and operator of the facility, and Synthomer Jefferson Hills LLC (“Synthomer”) current owner and operator of the facility and required party under Fed. R. Civ. P. 19(a): (1) claims under the Clean Water Act (“CWA”) for unpermitted discharges, discharges of harmful quantities of oil, permit violations, and deficiencies in the facility's Federal Response Plan and Spill Prevention, Control, and Countermeasure Plan; (2) claims under the Clean Air Act (“CAA”) for violations of the risk management program regulations; (3) claims under the Resource Conservation and Recovery Act (“RCRA”) violations of Subtitle C and regulations issued under the delegated state program relating to management of hazardous waste; and (4) corresponding claims under the Pennsylvania Clean Streams Law (“PCSL”), Pennsylvania Solid Waste Management Act (“PSWMA”), and Pennsylvania Hazardous Waste Management Regulations (“PHWMR”).

The proposed Consent Decree will resolve all civil claims alleged by the United States and PADEP in the filed complaint. Under the proposed Consent Decree, Synthomer will perform injunctive relief, including: (1) conducting a third-party environmental audit; (2) implementing effluent limit violations response requirements; (3) performing facility specific work and repairs; (4) completing comprehensive stormwater and groundwater control plans; (4) implementing a RCRA-based training program and daily inspection requirements. In addition, Eastman will pay a $2.4 million civil penalty to be split between the United States and PADEP.

The publication of this notice opens a period for public comment on the proposed Consent Decree. Comments should be addressed to the Assistant Attorney General, Environment and Natural Resources Division, Environmental Enforcement Section, and should refer to United States, et. al. v. Eastman Chemical Resins, Inc., et. al., D.J. Ref. No. 90-5-2-1-09001/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $60.75 (25 cents per page reproduction cost) for the proposed Consent Decree payable to the United States Treasury. For a paper copy without the appendices, the cost is $14.25.

Jeffrey Sands,
Assistant Section Chief, Environmental Enforcement Section, Environment and Natural Resources Division.

[FR Doc. 2023-11657 Filed 5-31-23; 8:45 am]

BILLING CODE 4410-15-P